POSTAL REGULATORY COMMISSION

[Docket No. CP2012-23; Order No. 2026]

Amendments to Postal Contract

AGENCY: Postal Regulatory Commission.

ACTION: Notice.

SUMMARY: The Commission is noticing a recent Postal Service filing an amendment to Parcel Select Contract 2. This notice informs the public of the filing, invites public comment, and takes other administrative steps.

DATES: Comments are due: March 26, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Brian Corcoran, Acting General Counsel, at 202-789-6820.

SUPPLEMENTARY INFORMATION:

Table of Contents

I. Introduction

II. Notice of Filings

III. Ordering Paragraphs

I. Introduction

On March 18, 2014, the Postal Service filed notice that it has agreed to an amendment to the existing Parcel Select Contract 2 subject to this docket.¹ The Postal Service includes two attachments in support of its Notice:

¹ Notice of United States Postal Service of Change in Prices Pursuant to Amendment to Parcel Select Contract 2, March 18, 2014 (Notice).

• Attachment A—A redacted copy of the amendment to the existing Parcel Select Contract 2.

• Attachment B—A certification of compliance with 39 U.S.C. 3633(a), as required by 39 CFR 3015.5.

The Postal Service also filed the unredacted amendment and supporting financial workpapers under seal. The Postal Service seeks to incorporate by reference the Application for Non-Public Treatment originally filed in this docket for the protection of the information that it has filed under seal. Id. 1.

The amendment changes the agreement's prices and amends Terms I.B, I.C, I.D, I.E, and I.G of the initial agreement. Id., Attachment A at 1-4. The amendment is effective one business day after the day on which the Commission issues all necessary regulatory approval. Id. 1.

II. Notice of Filings

Interested persons may submit comments on whether the changes presented in the Postal Service's Notice are consistent with the policies of 39 U.S.C. 3632, 3633, or 3642, 39 CFR 3015.5, and 39 CFR part 3020, subpart B. Comments are due no later than March 26, 2014. The public portions of these filings can be accessed via the Commission's Web site (http://www.prc.gov).

The Commission appoints Lyudmila Y. Bzhilyanskaya to represent the interests of the general public (Public Representative) in this case.

III. Ordering Paragraphs

It is ordered:

1. The Commission reopens Docket No. CP2012-23 for consideration of matters raised by the Postal Service's Notice.

2. Pursuant to 39 U.S.C. 505, the Commission appoints Lyudmila Y. Bzhilyanskaya to serve as an officer of the Commission (Public Representative) to represent the interests of the general public in this proceeding.

3. Comments are due no later than March 26, 2014.

4. The Secretary shall arrange for publication of this order in the Federal Register.

By the Commission.
Shoshana M. Grove,
Secretary.

[FR Doc. 2014-06434 Filed 3-24-14; 8:45 am]

BILLING CODE 7710-FW-P